DEPARTMENT OF TRANSPORTATION

Federal Aviation Administration

[Summary Notice No. E-2006-40]

Petitions for Exemption; Summary of Petitions Received

AGENCY: Federal Aviation Administration (FAA), DOT.

ACTION: Notice of extension of comment period.

SUMMARY: In accordance with 14 CFR 11.47(c), the FAA has received a petition from the Association of Flight Attendants-CWA, AFL-CIO (AFA-CWA). That petition requested an extension of the comment period for Alaska Airlines, Inc. petition for exemption. That exemption, if granted, would allow Alaska Airlines to eliminate the requirement for a procedure on their B737-400 combination passenger/cargo operations for a flight attendant to enter the pilot compartment in the event a flight crew member becomes incapacitated. The FAA finds that AFA-CWA has a substantive interest in the exemption request and has shown that good cause exists to extend the comment period if consistent with public interest.

DATES: Comments must identify the petition docket number and must be received on or before December 22, 2006.

ADDRESSES: Send comments on the petition to the Docket Management System, U.S. Department of Transportation, Room Plaza 401, 400 Seventh Street, SW., Washington, DC 20590-0001. You must identify the docket number FAA-2006-25916 at the beginning of your comments. If you wish to receive confirmation that the FAA received your comments, include a self-addressed, stamped postcard.

You may also submit comments through the Internet to http://dms.dot.gov. You may review the public docket containing the petition, any comments received, and any final disposition in person in the Dockets Office between 9 a.m. and 5 p.m., Monday through Friday, except Federal holidays. The Docket Office (telephone 1-800-647-5527) is on the plaza level of the NASSIF Building at the Department of Transportation at the above address. Also, you may review public dockets on the Internet at http://dms.dot.gov.

FOR FURTHER INFORMATION CONTACT: Frances Shaver (202-267-9681), Office of Rulemaking (ARM-1), Federal Aviation Administration, 800 Independence Avenue, SW., Washington, DC 20591 or Susan Lender (202-267-8029), Office of Rulemaking (ARM-1), Federal Aviation Administration, 800 Independence Avenue, SW., Washington, DC 20591. This notice is published pursuant to 14 CFR 11.85 and 11.91.

Issued in Washington, DC on November 3, 2006.
Brenda D. Courtney,
Acting Director, Office of Rulemaking.

[FR Doc. 06-9183 Filed 11-9-06; 8:45 am]

BILLING CODE 4910-13-M